DEPARTMENT OF TRANSPORTATION

Federal Aviation Administration

14 CFR Part 95

[Docket No. 31489; Amdt. No. 572]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, June 15, 2023.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73099. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on May 15, 2023.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, 15 June 2023.

PART 95—IFR ALTITUDES

1. The authority citation for part 95 continues to read as follows:

Authority: 49 U.S.C. 106(g), 40103, 40113 and 14 CFR 11.49(b)(2).

2. Part 95 is amended to read as follows:

Revisions to IFR Altitudes & Changeover Point
[Amendment 572 effective date June 15, 2023]
From | To | MEA
Color Routes
§ 95.516 Green Federal Airway G16 Is Amended To Read in Part
WAINWRIGHT VILLAGE, AK NDB | BROWERVILLE, AK NDB | 2000
NUIQSUT VILLAGE, AK NDB | PUT RIVER, AK NDB | 1700

From | To | MEA | MAA
§ 95.3000 Low Altitude RNAV Routes
§ 95.3216 RNAV Route T216 Is Amended To Read in Part
PHILIPSBURG, PA VORTAC | WILLIAMSPORT, PA VOR/DME | 4900 | 17500
WILLIAMSPORT, PA VOR/DME | ELEXY, PA WP | 4900 | 17500
ELEXY, PA WP | LAAYK, PA FIX | *4900 | 17500
*4700—MCA LAAYK, PA FIX, W BND
§ 95.3288 RNAV Route T288 Is Amended by Adding
FESNT, NE WP | ISTIQ, NE WP | 4400 | 17500
Is Amended To Delete
FESNT, NE WP | WOLBACH, NE VORTAC | 4300 | 17500
§ 95.3300 RNAV Route T300 Is Amended To Read in Part
JONNN, NY FIX | UUBER, NY WP | *4500 | 17500
*5900—MCA UUBER, NY WP, S BND
UUBER, NY WP | OPDIE, NY WP | *6400 | 17500
*6600—MCA OPDIE, NY WP, S BND
§ 95.3306 RNAV Route T306 Is Amended To Read in Part
BUCKEYE, AZ VORTAC | PERKY, AZ FIX | *5300 | 17500
*4900—MCA PERKY, AZ FIX, W BND
PERKY, AZ FIX | PHOENIX, AZ VORTAC | 4400 | 17500
§ 95.3366 RNAV Route T366 Is Amended To Read in Part
FILEV, AK WP | BARROW, AK VOR/DME | 2000 | 17500
§ 95.4000 High Altitude RNAV Routes
§ 95.4101 RNAV Route Q101 Is Amended by Adding
TUGGR, VA WP | KALDA, VA WP | *18000 | 45000
*18000—GNSS MEA
*DME/DME/IRU MEA
§ 95.4178 RNAV Route Q178 Is Added To Read
DRYER, OH VOR/DME | LEJOY, PA FIX | *18000 | 45000
*18000—GNSS MEA
*DME/DME/IRU MEA
LEJOY, PA FIX | BALTIMORE, MD VORTAC | *18000 | 45000
*18000—GNSS MEA
*DME/DME/IRU MEA

From | To | MEA
§ 95.6001 VICTOR Routes-U.S.
§ 95.6001 VOR Federal Airway V1 Is Amended To Read in Part
WALLO, NC FIX | KINSTON, NC VORTAC | UNUSABLE
§ 95.6003 VOR Federal Airway V3 Is Amended To Read in Part
ORMOND BEACH, FL VORTAC | BRUNSWICK, GA VORTAC | *5000
*1400—MOCA
BRUNSWICK, GA VORTAC | KELER, GA FIX | *3000
*2300—MOCA
§ 95.6008 VOR Federal Airway V8 Is Amended To Read in Part
CHICAGO HEIGHTS, IL VORTAC | GOSHEN, IN VORTAC | 2600
§ 95.6010 VOR Federal Airway V10 Is Amended To Read in Part
KIRKSVILLE, MO VORTAC | BURLINGTON, IA VOR/DME | 3000
CHETT, MI FIX | GIPPER, MI VORTAC | *3500
*2200—MOCA
§ 95.6016 VOR Federal Airway V16 Is Amended To Read in Part
BUCKEYE, AZ VORTAC | *PERKY, AZ FIX | 5300
*4900—MCA PERKY, AZ FIX, W BND
§ 95.6017 VOR Federal Airway V17 Is Amended To Read in Part
GARDEN CITY, KS VORTAC | *COFFE, KS FIX | 5500
*9000—MRA
§ 95.6018 VOR Federal Airway V18 Is Amended To Read in Part
SACKS, SC FIX | CHARLESTON, SC VORTAC | *3000
*1600—MOCA
§ 95.6037 VOR Federal Airway V37 Is Amended To Read in Part
BRUNSWICK, GA VORTAC | KELER, GA FIX | *3000
*2300—MOCA
KELER, GA FIX | SAVANNAH, GA VORTAC | *3000
*1900—MOCA
§ 95.6039 VOR Federal Airway V39 Is Amended To Read in Part
BOYER, PA FIX | EAST TEXAS, PA VOR/DME | 3000
EAST TEXAS, PA VOR/DME | SPARTA, NJ VORTAC | 3000
§ 95.6044 VOR Federal Airway V44 Is Amended To Read in Part
BENDS, WV FIX | *MORGANTOWN, WV VOR/DME | 4000
*4600—MCA MORGANTOWN, WV VOR/DME, E BND
MORGANTOWN, WV VOR/DME | KEYER, WV FIX | 5400
KEYER, WV FIX | MARTINSBURG, WV VORTAC | 5000
§ 95.6050 VOR Federal Airway V50 Is Amended To Delete
KIRKSVILLE, MO VORTAC | QUINCY, IL TACAN | 2700
QUINCY, IL TACAN | SPINNER, IL VORTAC | *3000
*2100—MOCA
§ 95.6051 VOR Federal Airway V51 Is Amended To Delete
CRAIG, FL VORTAC | ALMA, GA VORTAC | *5000
*1700—MOCA
*4000—GNSS MEA
ALMA, GA VORTAC | DUBLIN, GA VORTAC | *3000
*2000—GNSS MEA
DUBLIN, GA VORTAC | ATHENS, GA VOR/DME | *3000
*2200—MOCA
ATHENS, GA VOR/DME | IRMOS, GA FIX | 3100
IRMOS, GA FIX | CORCE, GA FIX | 3800
CORCE, GA FIX | TALLE, GA FIX | 5300
TALLE, GA FIX | HARRIS, GA VORTAC | 7000
HARRIS, GA VORTAC | ETOWA, TN FIX | 7000
ETOWA, TN FIX | HINCH MOUNTAIN, TN VOR/DME | 5000
Is Amended To Read in Part
ORMOND BEACH, FL VORTAC | CRAIG, FL VORTAC | 2100
§ 95.6052 VOR Federal Airway V52 Is Amended To Delete
OTTUMWA, IA VOR/DME | QUINCY, IL TACAN | 2600
QUINCY, IL TACAN | RIVRS, IL WP | 2600
RIVRS, IL WP | ST LOUIS, MO VORTAC | 2600
§ 95.6063 VOR Federal Airway V63 Is Amended To Delete
HALLSVILLE, MO VORTAC | QUINCY, IL TACAN | 2900
QUINCY, IL TACAN | BURLINGTON, IA VOR/DME | 2600
§ 95.6067 VOR Federal Airway V67 Is Amended To Read in Part
BURLINGTON, IA VOR/DME | IOWA CITY, IA VOR/DME | 2600
§ 95.6074 VOR Federal Airway V74 Is Amended To Read in Part
OWETA, OK FIX | MALTS, OK FIX | *2800
*2000—MOCA
MALTS, OK FIX | FORT SMITH, AR VORTAC | *4000
*3100—MOCA
§ 95.6092 VOR Federal Airway V92 Is Amended To Read in Part
CHICAGO HEIGHTS, IL VORTAC | GOSHEN, IN VORTAC | 2600
§ 95.6097 VOR Federal Airway V97 Is Amended To Read in Part
MELLS, GA FIX | OLBUE, TN FIX | *10000
*7400—GNSS MEA
OLBUE, TN FIX | *HINDE, TN FIX | 7400
*7000—MRA
*6900—MCA HINDE, TN FIX, S BND
§ 95.6099 VOR Federal Airway V99 Is Amended To Read in Part
LA GUARDIA, NY VOR/DME | OUTTE, CT FIX | *4000
*1900—MOCA
OUTTE, CT FIX | SORRY, CT FIX | *4000
*2700—MOCA
§ 95.6115 VOR Federal Airway V115 Is Amended To Delete
VULCAN, AL VORTAC | CHOO CHOO, TN DME | 4000
CHOO CHOO, TN DME | ETOWA, TN FIX | 3000
Is Amended by Adding
VULCAN, AL VORTAC | BOAZE, TN FIX | 4000
DUBBS, TN FIX | ETOWA, TN FIX | 3000
§ 95.6119 VOR Federal Airway V119 Is Amended To Delete
PARKERSBURG, WV VOR/DME | ANTIO, OH FIX | 3000
ANTIO, OH FIX | INDIAN HEAD, PA TACAN | 5000
§ 95.6126 VOR Federal Airway V126 Is Amended To Delete
BEARZ, IN WP | HALIE, IN FIX | 3000
HALIE, IN FIX | INKEN, IN FIX | *4000
*2300—MOCA
INKEN, IN FIX | GOSHEN, IN VORTAC | 2600
§ 95.6132 VOR Federal Airway V132 Is Amended To Read in Part
GOODLAND, KS VORTAC | *ORION, KS FIX | **8000
*8000—MRA
**5700—MOCA
ORION, KS FIX | *RANSO, KS FIX | **10000
*10000—MRA
**4500—MOCA
§ 95.6136 VOR Federal Airway V136 Is Amended To Read in Part
VOLUNTEER, TN VORTAC | AUBRY, TN FIX
| W BND | *5000
| E BND | *8000
*4900—MOCA
AUBRY, TN FIX | SNOWBIRD, TN VORTAC | *8000
*7400—MOCA
§ 95.6139 VOR Federal Airway V139 Is Amended To Read in Part
HARBO, NJ FIX | *DRIFT, NJ FIX | **7500
*6000—MRA
*12000—MCA DRIFT, NJ FIX, NE BND
**3000—GNSS MEA
DRIFT, NJ FIX | *MANTA, NJ FIX | **12000
*12000—MCA MANTA, NJ FIX, SW BND
**3000—GNSS MEA
§ 95.6156 VOR Federal Airway V156 Is Amended To Delete
PEOTONE, IL VORTAC | LUCIT, IN FIX | 2500
LUCIT, IN FIX | MAPPS, IN FIX | *4000
*2400—MOCA
MAPPS, IN FIX | KNOX, IN VOR/DME | *3000
*2200—MOCA
KNOX, IN VOR/DME | GIPPER, MI VORTAC | 2600
§ 95.6166 VOR Federal Airway V166 Is Amended To Read in Part
DUPONT, DE VORTAC | WOODSTOWN, NJ VORTAC | 2100 MAA—8000
§ 95.6172 VOR Federal Airway V172 Is Amended To Delete
NORTH PLATTE, NE VOR/DME | WOLBACH, NE VORTAC | *5400
*4500—MOCA
WOLBACH, NE VORTAC | COLUMBUS, NE VOR/DME | 3800
§ 95.6173 VOR Federal Airway V173 Is Amended To Read in Part
SPINNER, IL VORTAC | *JILLY, IL FIX | **4500
*4500—MCA JILLY, IL FIX, SW BND
**2400—MOCA
JILLY, IL FIX | PEOTONE, IL VORTAC | *4500
*2300—MOCA
§ 95.6195 VOR Federal Airway V195 Is Amended To Read in Part
TOMAD, CA FIX | *YAGER, CA FIX | 8300
*6500—MCA YAGER, CA FIX, E BND
§ 95.6216 VOR Federal Airway V216 Is Amended To Read in Part
ORION, KS FIX | HILL CITY, KS VORTAC | *5000
*4500—MOCA
§ 95.6219 VOR Federal Airway V219 Is Amended To Delete
HAYES CENTER, NE VORTAC | YOZLE, NE FIX | *7000
*4500—MOCA
*5000—GNSS MEA
YOZLE, NE FIX | WOLBACH, NE VORTAC
| NE BND | *5000
| SW BND | *7000
*4500—MOCA
*5000—GNSS MEA
WOLBACH, NE VORTAC | NORFOLK, NE VOR/DME | 4000
§ 95.6228 VOR Federal Airway V228 Is Amended To Read in Part
NORTHBROOK, IL VOR/DME | GIPPER, MI VORTAC | 2600
§ 95.6233 VOR Federal Airway V233 Is Amended To Delete
ROBERTS, IL VOR/DME | KNOX, IN VOR/DME | *3000
*2200—MOCA
KNOX, IN VOR/DME | GOSHEN, IN VORTAC | 2600
§ 95.6243 VOR Federal Airway V243 Is Amended To Delete
HEFIN, AL FIX | FELTO, GA FIX | *6000
*3400—MOCA
FELTO, GA FIX | GORGO, GA FIX | *5000
*4000—MOCA
GORGO, GA FIX | CHOO CHOO, TN DME | 4000
§ 95.6264 VOR Federal Airway V264 Is Amended To Read in Part
SOCORRO, NM VORTAC | CORONA, NM VORTAC | 9700
CORONA, NM VORTAC | TUCUMCARI, NM VORTAC | *11000
*9300—MOCA
§ 95.6266 VOR Federal Airway V266 Is Amended To Read in Part
ELECTRIC CITY, SC VORTAC | SPARTANBURG, SC VORTAC | 2900
§ 95.6267 VOR Federal Airway V267 Is Amended To Delete
DOLPHIN, FL VORTAC | PAHOKEE, FL VOR/DME | *2000
*1500—MOCA
PAHOKEE, FL VOR/DME | DIDDY, FL FIX | *2000
*1500—MOCA
DIDDY, FL FIX | ORLANDO, FL VORTAC | 2700
CORCE, GA FIX | TALLE, GA FIX | 5300
TALLE, GA FIX | HARRIS, GA VORTAC | 7000
HARRIS, GA VORTAC | FORMS, NC FIX | 7800
FORMS, NC FIX | *KNITS, TN FIX | 7500
*6200—MCA KNITS, TN FIX, S BND
KNITS, TN FIX | VOLUNTEER, TN VORTAC | 4200
§ 95.6268 VOR Federal Airway V268 Is Amended To Delete
NESTO, PA FIX | PLEEZ, PA WP | *4000
*3100—MOCA
PLEEZ, PA WP | INDIAN HEAD, PA TACAN | *5000
*4500—MOCA
INDIAN HEAD, PA TACAN | HAGERSTOWN, MD VOR | *12000
*4600—MOCA
*4700—GNSS MEA
Is Amended To Read in Part
HARBO, NJ FIX | *DRIFT, NJ FIX | **7500
*6000—MRA
*12000—MCA DRIFT, NJ FIX, NE BND
**3000—GNSS MEA
DRIFT, NJ FIX | *MANTA, NJ FIX | **12000
*12000—MCA MANTA, NJ FIX, SW BND
**3000—GNSS MEA
§ 95.6269 VOR Federal Airway V269 Is Amended To Read in Part
BURLEY, ID VOR/DME | POCATELLO, ID VOR/DME | 8600
§ 95.6308 VOR Federal Airway V308 Is Amended To Read in Part
HARBO, NJ FIX | *DRIFT, NJ FIX | **7500
*6000—MRA
*12000—MCA DRIFT, NJ FIX, NE BND
**3000—GNSS MEA
DRIFT, NJ FIX | *MANTA, NJ FIX | **12000
*12000—MCA MANTA, NJ FIX, SW BND
**3000—GNSS MEA
§ 95.6311 VOR Federal Airway V311 Is Amended To Delete
ELECTRIC CITY, SC VORTAC | GREENWOOD, SC VORTAC | 2500
GREENWOOD, SC VORTAC | COLUMBIA, SC VORTAC | 2400
COLUMBIA, SC VORTAC | *ERNIE, SC FIX | 2000
*2500—MRA
ERNIE, SC FIX | SACKS, SC FIX | 2000
SACKS, SC FIX | CHARLESTON, SC VORTAC | 2100
§ 95.6333 VOR Federal Airway V333 Is Amended To Delete
ROME, GA VORTAC | CHOO CHOO, TN VORTAC | 4000
CHOO CHOO, TN VORTAC | *BOOPS, TN WP | 3500
*4500—MRA
BOOPS, TN WP | HINCH MOUNTAIN, TN VOR/DME | 5000
§ 95.6340 VOR Federal Airway V340 Is Amended To Delete
BEARZ, IN WP | KNOX, IN VOR/DME | 3000
KNOX, IN VOR/DME | FORT WAYNE, IN VORTAC | 3000
§ 95.6371 VOR Federal Airway V371 Is Amended To Delete
BOILER, IN VORTAC | KNOX, IN VOR/DME | 2500
§ 95.6380 VOR Federal Airway V380 Is Amended To Delete
O'NEILL, NE VORTAC | WOLBACH, NE VORTAC | *4000
*3500—MOCA
WOLBACH, NE VORTAC | GRAND ISLAND, NE VOR/DME | *4000
*3300—MOCA
§ 95.6415 VOR Federal Airway V415 Is Amended To Delete
GIFFY, AL FIX | FELTO, GA FIX | *5000
*4000—MOCA
FELTO, GA FIX | GORGO, GA FIX | *5000
*4000—MOCA
GORGO, GA FIX | ROME, GA VORTAC | 4000
ROME, GA VORTAC | *NELLO, GA FIX | 5600
*6000—MCA NELLO, GA FIX, E BND
Is Amended by Adding
SEMAN, AL FIX | HEFIN, AL FIX | *6000
*3400—MOCA
Is Amended To Read in Part
NELLO, GA FIX | FOOTHILLS, SC VOR/DME | 6000
§ 95.6422 VOR Federal Airway V422 Is Amended To Delete
NILES, IL FIX | CHICAGO HEIGHTS, IL VORTAC | 3500
CHICAGO HEIGHTS, IL VORTAC | KNOX, IN VOR/DME | 2800
KNOX, IN VOR/DME | WEBSTER LAKE, IN VOR | 2700
§ 95.6580 VOR Federal Airway V463 Is Amended To Delete
WOMAC, GA FIX | *ANNYE, GA FIX | **5000
*5900—MCA ANNYE, GA FIX, N BND
**4100—MOCA
ANNYE, GA FIX | HARRIS, GA VORTAC | 7000
§ 95.6469 VOR Federal Airway V469 Is Amended To Read in Part
DUPONT, DE VORTAC | WOODSTOWN, NJ VORTAC | 2100 MAA—8000
§ 95.6474 VOR Federal Airway V474 Is Amended To Delete
NESTO, PA FIX | PLEEZ, PA WP | *4000
*3100—MOCA
PLEEZ, PA WP | INDIAN HEAD, PA TACAN | *5000
*4500—MOCA
INDIAN HEAD, PA TACAN | ST THOMAS, PA VORTAC | *5000
*4500—MOCA
§ 95.6508 VOR Federal Airway V508 Is Amended To Read in Part
TOPEKA, KS VORTAC | RUGBB, KS FIX | 2900
§ 95.6568 VOR Federal Airway V568 Is Amended To Read in Part
MILLSAP, TX VORTAC | KARYN, TX FIX
| SE BND | 3000
| NW BND | 3100
§ 95.6576 VOR Federal Airway V576 Is Amended To Read in Part
PHILIPSBURG, PA VORTAC | WILLIAMSPORT, PA VOR/DME | 4900
WILLIAMSPORT, PA VOR/DME | HANCOCK, NY VOR/DME | 4700
HANCOCK, NY VOR/DME | DELANCEY, NY VOR/DME | 4900
§ 95.6580 VOR Federal Airway V580 Is Amended To Read in Part
LEBOY, IL FIX | *SEXTN, IL FIX | **4500
*4500—MCA SEXTN, IL FIX, S BND
**2100—MOCA
SEXTN, IL FIX | BURLINGTON, IA VOR/DME | *3000
*2300—MOCA
§ 95.6582 VOR Federal Airway V582 Is Amended To Delete
ST LOUIS, MO VORTAC | LEBOY, IL FIX | *3000
*2200—MOCA
LEBOY, IL FIX | QUINCY, IL TACAN | 3000
§ 95.6586 VOR Federal Airway V586 Is Amended To Delete
QUINCY, IL TACAN | PEORIA, IL VORTAC | 2500
§ 95.6317 ALASKA VOR Federal Airway V317 Is Amended To Read in Part
ANNETTE ISLAND, AK VOR/DME | GESTI, AK FIX
| SE BND | 5000
| NW BND | 9000
GESTI, AK FIX | LEVEL ISLAND, AK VOR/DME | *9000
*5300—MOCA
LEVEL ISLAND, AK VOR/DME | HOODS, AK FIX | *10000
*6000—MOCA MAA—14600
HOODS, AK FIX | SISTERS ISLAND, AK VORTAC | *9000
*5500—MOCA

From | To | MEA | MAA
§ 95.7001 JET Routes
§ 95.7010 JET Route J10 Is Amended To Delete
NORTH PLATTE, NE VOR/DME | WOLBACH, NE VORTAC | 18000 | 41000
WOLBACH, NE VORTAC | DES MOINES, IA VORTAC | 18000 | 45000
§ 95.7084 JET Route J84 Is Amended To Delete
SIDNEY, NE VOR/DME | WOLBACH, NE VORTAC | 18000 | 45000
WOLBACH, NE VORTAC | DUBUQUE, IA VORTAC | #21000 | 45000
#MEA IS ESTABLISHED WITH A GAP IN NAVIGATION SIGNAL COVERAGE
§ 95.7100 JET Route J100 Is Amended To Delete
SIDNEY, NE VOR/DME | WOLBACH, NE VORTAC | 18000 | 45000
WOLBACH, NE VORTAC | DUBUQUE, IA VORTAC | #21000 | 45000
#MEA IS ESTABLISHED WITH A GAP IN NAVIGATION SIGNAL COVERAGE
§ 95.7128 JET Route J128 Is Amended To Delete
HAYES CENTER, NE VORTAC | WOLBACH, NE VORTAC | 18000 | 45000
WOLBACH, NE VORTAC | DUBUQUE, IA VORTAC | #21000 | 45000
#MEA IS ESTABLISHED WITH A GAP IN NAVIGATION SIGNAL COVERAGE
§ 95.7133 JET Route J133 Is Amended To Read in Part
SITKA, AK NDB | WOXOX, AK FIX | 20000 | 45000
*20000—MCA WOXOX, AK FIX, E BND
WOXOX, AK FIX | ORCA BAY, AK NDB | 18000 | 45000
§ 95.7144 JET Route J144 Is Amended To Delete
WOLBACH, NE VORTAC | DES MOINES, IA VORTAC | 18000 | 45000
§ 95.7149 JET Route J149 Is Amended To Read in Part
ARMEL, VA VOR/DME | EYTEE, WV FIX | *31000 | 41000
*18000—GNSS MEA
EYTEE, WV FIX | GEFFS, WV FIX | UNUSABLE
§ 95.7197 JET Route J197 Is Amended To Delete
GOODLAND, KS VORTAC | WOLBACH, NE VORTAC | 18000 | 45000
WOLBACH, NE VORTAC | SIOUX FALLS, SD VORTAC | 18000 | 45000
§ 95.7518 JET Route J518 Is Amended To Delete
DRYER, OH VOR/DME | INDIAN HEAD, PA TACAN | 18000 | 45000
INDIAN HEAD, PA TACAN | BALTIMORE, MD VORTAC | 18000 | 35000

Airway segment: From | Airway segment: To | Changeover points: Distance | Changeover points: From
§ 95.8003 VOR Federal Airway Changeover Points
V51 Is Amended To Delete Changeover Point
CRAIG, FL VORTAC | ALMA, GA VORTAC | 48 | CRAIG
DUBLIN, GA VORTAC | ATHENS, GA VOR/DME | 47 | DUBLIN
V115 Is Amended To Delete Changeover Point
VULCAN, AL VORTAC | CHOO CHOO, TN DME | 59 | VULCAN
V136 Is Amended To Delete Changeover Point
VOLUNTEER, TN VORTAC | SNOWBIRD, TN VORTAC | 25 | VOLUNTEER
§ 95.8005 JET Routes Changeover Points
J518 Is Amended To Delete Changeover Point
INDIAN HEAD, PA VORTAC | BALTIMORE, MD VORTAC | 20 | INDIAN HEAD

[FR Doc. 2023-10553 Filed 5-18-23; 8:45 am]

BILLING CODE 4910-13-P